ENVIRONMENTAL PROTECTION AGENCY

[FRL-9447-9]

New York State Prohibition of Discharges of Vessel Sewage; Receipt of Petition and Tentative Affirmative Determination

AGENCY: Environmental Protection Agency (EPA).

ACTION: Notice; Receipt of Petition and Tentative Affirmative Determination.

SUMMARY: Notice is hereby given that, pursuant to Clean Water Act, Section 312(f)(3) (33 U.S.C. 1322(f)(3)), the State of New York has determined that the protection and enhancement of the quality of the Jamaica Bay in the New York City metropolitan area requires greater environmental protection, and has petitioned the United States Environmental Protection Agency, Region 2, for a determination that adequate facilities for the safe and sanitary removal and treatment of sewage from all vessels are reasonably available for those waters, so that the State may completely prohibit the discharge from all vessels of any sewage, whether treated or not, into such waters.

The New York State Department of Conservation (NYSDEC) on behalf of the New York City Department of Environmental Protection (NYCDEP) has proposed to establish a Vessel Waste No-Discharge Zone (NDZ) for the Jamaica Bay that covers an area of approximately 20,000 acres (17,177 acres of open water and 2,695 acres of upland islands and salt marshes). It is bounded on the west and northwest by Brooklyn, on the north and northeast by Queens. The northeastern and southeastern corners of the Bay are bordered by Nassau County. The northern shore of the Rockaway Peninsula, a part of Queens, forms the southern boundary. The Bay is connected to the Atlantic Ocean through the Rockaway Inlet and has a tidal range of approximately 5 to 6 feet. It measures approximately 10 miles at its widest point east to west and approximately 4 miles at its widest point north to south. The mean depth of the Bay is approximately 13 feet with maximum depths reaching 30 to 50 feet in navigation channels and borrows pit areas. Eight tributaries empty into Jamaica Bay—Sheepshead Bay, Paerdegat Basin, Fresh Creek, Hendrix Creek, Spring Creek, Shellbank Basin, Bergen Basin, and Thurston Basin.

DATES: Comments regarding this tentative determination are due by September 2, 2011.

ADDRESSES: You may submit comments by any of the following methods:

• E-mail: chang.moses@epa.gov. Include “Comments on Tentative Affirmative Decision for NYC JAMAICA BAY NDZ” in the subject line of the message.

• Fax: 212-637-3891.

• Mail and Hand Delivery/Courier: Moses Chang, U.S. EPA Region 2, 290 Broadway, 24th Floor, New York, NY 10007-1866. Deliveries are only accepted during the Regional Office's normal hours of operation (8 a.m. to 5 p.m., Monday through Friday, excluding federal holidays), and special arrangements should be made for deliveries of boxed information.

FOR FURTHER INFORMATION CONTACT: Moses Chang, (212) 637-3867, e-mail address: chang.moses@epa.gov.

SUPPLEMENTARY INFORMATION: Notice is hereby given that the State of New York (NYS or State) has petitioned the United States Environmental Protection Agency, Region 2, (EPA) pursuant to section 312(f)(3) of Public Law 92-500 as amended by Public Law 95-217 and Public Law 100-4, that adequate facilities for the safe and sanitary removal and treatment of sewage from all vessels are reasonably available for the open waters and tributaries of Jamaica Bay, so that the State may completely prohibit the discharge from all vessels of any sewage, whether treated or not, into such waters. Adequate pumpout facilities are defined as one pumpout station for 300-600 boats under the Clean Vessel Act: Pumpout Station and Dump Station Technical Guidelines (Federal Register, Vol. 59, No. 47, March 10, 1994).

Jamaica Bay is the largest estuarine water body in the New York City metropolitan area and one of the largest coastal wetland ecosystems in New York State. The open waters and tributaries within Jamaica Bay provide important natural and recreational resources for boating and recreational activities that contribute significantly to the local and regional economy. In 2005, the Jamaica Bay Watershed Protection Plan (JBWPP) was put into motion by the City Council of New York City under Local Law 71 (LL 71). The objective of LL 71 is to ensure a holistic watershed approach toward restoring and maintaining the water quality and ecological integrity of the Bay. The JBWPP recommends management actions for protecting and improving the health of the Bay, e.g, adoption of appropriate regulations to mitigate the impacts of boat vessel waste discharges.

Jamaica Bay is a component of the National Park Service's (NPS) Gateway National Recreation Area (GNRA). A significant portion of the Bay, approximately 9,100 acres, has also been designated by the NPS as the Jamaica Bay Wildlife Refuge and is designated by the New York State Department of State (NYSDOS) as a Significant Coastal Fish and Wildlife Habitat. The diversity of bird species and breeding habitats within the Bay were important factors in these designations. The Jamaica Bay Wildlife Refuge was also the first site to be designated by the National Audubon Society as an “Important Bird Area.” It is clear that Jamaica Bay is currently functioning as a regional habitat for many different species of wildlife. In combination with other water quality improvement initiatives, the NDZ designation will further enhance the recreational and ecological benefits of Jamaica Bay, potentially attracting more visitors to the Bay.

In order for EPA to determine that adequate facilities for the safe and sanitary removal and treatment of sewage from all vessels are reasonably available for the New York State areas of the Jamaica Bay, the State must demonstrate that the pumpout-to-vessel ratio does not exceed 1:600.

In its petition, the State described the recreational vessels that use the Bay, and the pumpout facilities that are available for their use. Based on a review of NYS Department of Motor Vehicle boat registrations, site visits to marinas and reviewing high resolution orthoimagery of Jamaica Bay, NYCDEP has determined that there are approximately 1,200 to 1,500 boats that utilize the Bay throughout the boating season. This number may include a significant number of transient vessels and not only boats that are permanently moored in Jamaica Bay.

Jamaica Bay is primarily used for recreational boating with very little commercial traffic. The few commercial vessels that do enter the bay are primarily sightseeing and fishing vessels which, pursuant to New York City regulations, must use private boat pumpout services to unload sewage within the Bay. Therefore, the boat pumpouts provided by NYCDEP within Jamaica Bay are utilized for recreational vessels only.

There are four vessel pumpout facilities available in the Jamaica Bay. Three of those are land-based pumpout facilities operated by NYCDEP, and the fourth is a 24-foot sewage pumpout vessel operated by New York/New Jersey Baykeeper, that serves vessels docked or anchored throughout the Bay. All four facilities provide the pumpout services free of charge. Given that approximately 1,500 recreational vessels use the Bay, the pumpout-to-vessel ratio for those vessels is 1:375 (i.e., 4 facilities for 1,500 boats). Therefore, the pumpout facilities in Jamaica Bay satisfy the Clean Vessel Act criterion of 1 pumpout per 300-600 vessels.

A list of the facilities, phone numbers, locations, hours of operation, water depth and fee is provided as follows:

List of Pumpouts in the Jamaica Bay NDZ Proposed Area Available for Recreational Vessels
Number | Name | Location | Contact information | Dates/days/hours of operation | Water depth (feet) | Cost
1 | Hudson River Yacht Club | Paerdegat Basin | 718-251-9791; Channel 71 | May 1-Oct 31; daily, 10 AM-5 PM | 10-14 | Free.
2 | Coney Island WWTP | Shellbank Creek | 718-743-0990; Channel 13 | May 1-Oct 31 15; 24 hrs a day | 8-10 | Free.
3 | Rockaway WWTP | Jamaica Bay | 718-474-3663; Channel 68 | May 1-Oct 31 15; 24 hrs a day | 10-14 | Free.
4 | NY/NJ Baykeeper's 24 foot sewage-pumpout vessel | Jamaica Bay | 732-337-9262; Channel 9 | Memorial Day to Labor Day; Sunrise to sunset | N/A | Free.

Based on the above, EPA hereby proposes to make an affirmative determination that adequate facilities for the safe and sanitary removal and treatment of sewage from all vessels are available for the open waters and tributaries of the Jamaica Bay of the New York City metropolitan area.

A 30-day period for public comment has been established on this matter, and EPA invites any comments relevant to its proposed determination.

Dated: July 21, 2011.
Judith A. Enck,
Regional Administrator, Region 2.

[FR Doc. 2011-19681 Filed 8-2-11; 8:45 am]

BILLING CODE 6560-50-P